DEPARTMENT OF COMMERCE

National Oceanic and Atmospheric Administration

50 CFR Part 635

[I.D. 070201A]

Atlantic Highly Migratory Species; Swordfish Quota Adjustment

AGENCY: National Marine Fisheries Service (NMFS), National Oceanic and Atmospheric Administration (NOAA), Commerce.

ACTION: Adjustment of annual catch quotas.

SUMMARY: NMFS adjusts the 2001 fishing year directed fishery and incidental catch quotas for North Atlantic swordfish to account for underharvest from the 1999 fishing year. Any unharvested quota from the 2000 fishing year will be transferred at a later date, once final landings have been tabulated. The 2001 South Atlantic swordfish quota remains at 289 mt dw. This action is consistent with the Fishery Management Plan for Atlantic Tunas, Swordfish, and Sharks (HMS FMP) and the provisions for swordfish quota adjustments at 50 CFR part 635.

DATES: Effective September 4, 2001 through May 31, 2002.

FOR FURTHER INFORMATION CONTACT: Jill Stevenson or Mike Barnette at 727-570-5447; Fax: 727-570-5656 or by email at jill.stevenson@noaa.gov or michael.barnette@noaa.gov.

SUPPLEMENTARY INFORMATION: The HMS FMP and its implementing regulations at 50 CFR part 635 establish catch quotas and, as applicable, fishing category and seasonal subquotas, for the North Atlantic and South Atlantic swordfish stocks. Under the FMP, these catch quotas are required to be consistent with recommendations of the International Commission for the Conservation of Atlantic Tunas (ICCAT). Additionally, the implementing regulations require that, if total landings are above or below the applicable Atlantic swordfish quotas, the difference must be subtracted from, or added to, the following year’s quota for the specific management category, provided such quota adjustments are consistent with ICCAT recommendations. Landings reports for the directed fisheries for North and South Atlantic swordfish, and estimates of the incidental catch of North Atlantic swordfish, indicate that the allocations for the respective fisheries were not completely harvested during the 1999 fishing year (June 1, 1999 through May 31, 2000.)

North Atlantic Swordfish

Directed fishery landings and incidental catch of North Atlantic swordfish during the 1999 fishing year were reported to ICCAT to be 2896 metric tons (mt) whole weight, equivalent to 2177.5 mt dressed weight (dw). The 1999 fishing year quota, after adjustment for the previous year’s underharvest (65 FR 15873, March 24, 2000), was 2727.3 mt dw. Therefore, a total of 549.8 mt dw of unharvested swordfish quota may be carried over.

Under applicable regulations at 50 CFR 635.23 (c)(3), if total landings are above or below the specific North Atlantic swordfish annual quotas, they must be subtracted from, or added to, the following year’s quota. Further, any carryover adjustments to the annual North Atlantic swordfish directed fishery quota must be apportioned equally between the two semiannual periods. The ICCAT recommendation on rebuilding the North Atlantic swordfish stock does allow for such carryovers. Because the 2000 fishing year ended May 31, 2001, the carryover amount will be applied to the current fishing year (June 1, 2001 through May 31, 2002.)

A total of 249 mt dw of the unharvested 1999 quota is added to the base 2001 directed fishery quota of 2033.2 mt dw for an adjusted North Atlantic swordfish directed catch quota of 2282.2 mt dw. This adjusted annual quota is divided into 2 equal semiannual quotas of 1141.1 mt dw for the periods of June 1, 2001 through November 30, 2001 and December 1, 2001 through May 31, 2002. The remaining 300.8 mt dw of the unharvested 1999 fishing year quota is added to the base 2001 incidental catch quota of 300 mt dw for an adjusted North Atlantic swordfish incidental catch quota of 600.8 mt dw.

South Atlantic Swordfish

Directed fishery landings of South Atlantic swordfish during the 1999 fishing year were reported to ICCAT to be 51 mt whole weight, equivalent to 38.3 mt dw. The 1999 fishing year quota was set at 289 mt dw (64 FR 29090, May 28, 1999). Consequently, a total of 250.7 mt dw was unharvested at the end of the fishing year.

The ICCAT recommendation on allocating the total allowable catch of South Atlantic swordfish contains no provisions to adjust country-specific quotas for over or under harvests in prior years. Therefore, the U.S. quota for South Atlantic swordfish remains at the current level of 289 mt dw. There is no incidental catch quota for South Atlantic swordfish.

Additional Quota Adjustments

When final swordfish landings figures for the 2000 fishing year are available, NMFS will transfer any unharvested quota to the 2001 fishing year. Additionally, if NMFS estimates that U.S. fishermen discarded more than 320 mt ww of swordfish during the 2000 fishing year, the dressed weight equivalent of the amount by which that allowance is exceeded will be deducted from the 2001 fishing year landings quota, consistent with the ICCAT swordfish rebuilding recommendation and HMS regulations at 50 CFR 635.27 (c)(3)(iii). NMFS will publish the 2000 fishing year swordfish landings and dead discards estimates at a later date and will announce any required adjustments to the 2001 fishing year quotas in the Federal Register.

Under the swordfish limited access program established under the 1999 HMS FMP and implemented by regulations at 50 CFR 635.16, NMFS has issued incidental catch permits. All swordfish catch by vessels so permitted are applied to the incidental catch quota as required by regulations at 50 CFR 635.27 (c). In past years, only a fraction of the incidental catch quota has been landed and NMFS has received comments requesting reallocation of a portion of the incidental catch quota to the directed fishery category. While under current regulations such reallocation is possible through an inseason quota adjustment, a permanent reallocation could reduce the potential for closure of the directed fishery mid-season. NMFS is currently evaluating the need for reallocation and may address this issue in a future rulemaking.

At the 2000 meeting of ICCAT, Japan indicated that it had exceeded its annual allocation of North Atlantic swordfish, due to higher than anticipated incidental catch rates of swordfish in its bigeye tuna fishery. This problem is difficult to address, because swordfish are not a target species and overharvest of the quota has forced Japanese fishermen to discard all swordfish, dead or alive. At the ICCAT meeting, the United States agreed to assist Japan in its efforts to comply with the catch allocation provisions of the swordfish rebuilding program by transferring to Japan a total of 400 mt whole weight (300.8 mt dw) of the U.S. North Atlantic swordfish quota for the 2001 fishing year. In order to accomplish this transfer, NMFS will have to reserve a portion of the 2001 North Atlantic swordfish quota. This reserve quota will be proposed in an upcoming rulemaking and the public will be provided with an opportunity to comment.

Classification

This action is taken under 50 CFR 635.27 (c). This action is exempt from review under Executive Order 12866.

Authority: 16 U.S.C. 971 et seq. and 16 U.S.C. 1801 et seq.

Dated: August 29, 2001.
Richard W. Surdi,
Acting Director, Office of Sustainable Fisheries, National Marine Fisheries Service.

[FR Doc. 01-22184 Filed 9-4-01; 8:45 am]

BILLING CODE 3510-22-S